NATIONAL SCIENCE FOUNDATION

Notice of Availability and Notice of Public Meeting for the Draft Environmental Impact Statement (DEIS) for the Green Bank Observatory, Green Bank, West Virginia

AGENCY: National Science Foundation.

ACTION: Notice of availability and notice of public meeting.

SUMMARY: The National Science Foundation (NSF) has made available for public review and comment the Draft Environmental Impact Statement (DEIS) for Green Bank Observatory. This DEIS has been prepared for the National Science Foundation (NSF) to evaluate the potential environmental impacts resulting from proposed operational changes due to funding constraints for the Green Bank Observatory in Green Bank, West Virginia. The DEIS was prepared in compliance with the National Environmental Policy Act of 1969. Consultation under Section 106 of the National Historic Preservation Act (NHPA) is being conducted concurrent with the NEPA process.

DATES: NSF will accept comments on the DEIS for 60 days following publication of this Notice of Availability; an additional 15 days are being provided beyond the standard 45-day review period to allow for the holidays). Comments may be submitted verbally during the public meeting scheduled for November 30, 2017 (see details in SUPPLEMENTARY INFORMATION) or in writing until January 8th, 2018. Substantive comments will be addressed in a Final Environmental Impact Statement (FEIS).

ADDRESSES: You may submit written comments by either of the following methods:

• Email to: envcomp-AST-greenbank@nsf.gov, with subject line “Green Bank Observatory”.

• Mail to: Elizabeth Pentecost, RE: Green Bank Observatory, National Science Foundation, 2415 Eisenhower Avenue, Suite W9152, Alexandria, VA 22314.

FOR FURTHER INFORMATION CONTACT: For further information regarding the EIS process or Section 106 consultation, contact: Elizabeth Pentecost, National Science Foundation, Division of Astronomical Sciences, 2415 Eisenhower Avenue, Suite W9152, Alexandria, VA 22314; telephone: (703) 292-4907; email: epenteco@nsf.gov.

DEIS Information: The DEIS, as well as information about the public meeting, is posted at www.nsf.gov/AST. A copy of the DEIS will be available for review at the following libraries: Green Bank Public Library, 5683 Potomac Highlands Trail, Green Bank, WV 24944, Durbin Community Library, 4361 Staunton Parkersburg Turnpike, Durbin, WV 26264.

SUPPLEMENTARY INFORMATION: Green Bank Observatory (GBO) is located in Pocahontas County, West Virginia, adjacent to the Monongahela National Forest. NSF owns the GBO land, which consists of numerous parcels acquired by the U.S. Army Corps of Engineers in the 1950s, when GBO was formed as the first (and then, only) site of the National Radio Astronomy Observatory (NRAO). The GBO facilities include the Robert C. Byrd Green Bank Telescope, the largest fully steerable radio telescope in the world; the 43-meter Telescope; the Green Bank Solar Radio Burst Spectrometer; the 20-meter Geodetic Telescope; the 40-foot Telescope; the Interferometer Range; and previously operational telescopes.

The NSF Directorate for Mathematical and Physical Sciences, Division of Astronomical Sciences (AST), through a series of academic community-based reviews, has identified the need to divest several facilities from its portfolio. This would allow NSF to retain the balance of capabilities needed to deliver the best performance on emerging and key science technology of the present decade and beyond. In 2012, AST's portfolio review committee recommended divestment of the Green Bank Telescope (GBT) from the AST portfolio, stating the following: “The GBT is the world's most sensitive single-dish radio telescope at wavelengths shorter than 10 cm; however, its capabilities are not as critical to New World New Horizons [astronomy and astrophysics decadal survey] science goals as the higher-ranked facilities.” In response to these recommendations, in 2016, NSF completed a feasibility study to inform and define options for the Observatory's future disposition that would involve significantly decreasing or eliminating NSF funding of Green Bank Observatory. NSF issued a Notice of Intent to prepare an EIS on October 19, 2016, held scoping meetings on November 9, 2016, and held a 30-day public comment period that closed on November 25, 2016.

Alternatives to be evaluated in the EIS, which may be refined through public input, include the following:

• Collaboration with interested parties for continued science- and education-focused operations with reduced NSF funding (Agency-preferred Alternative).

• Collaboration with interested parties for operation as a technology and education park.

• Mothballing of facilities (suspension of operations in a manner such that operations could resume efficiently at some future date).

• Demolition and site restoration.

• No-Action Alternative: Continued NSF investment for science-focused operations.

No final decisions will be made regarding the proposed changes to operations at Green Bank Observatory prior to issuance of an FEIS, and, subsequently, a Record of Decision for the Proposed Action.

Public Meeting: A public meeting to address the DEIS and to solicit public input under Section 106 of the NHPA will take place in Green Bank with notification of the time and location published in the local newspapers, as follows:

• Public meeting: November 30, 2017, at 5:00 p.m. to 8:30 p.m.

Green Bank Science Center

155 Observatory Road

Green Bank, WV 24915

Telephone: (304) 456-2011

The meeting will be transcribed by a court reporter.

Dated: November 3, 2017.
Suzanne H. Plimpton,
Reports Clearance Officer, National Science Foundation.

[FR Doc. 2017-24322 Filed 11-7-17; 8:45 am]

BILLING CODE 7555-01-P